DEPARTMENT OF TRANSPORTATION

Office of the Secretary

Aviation Proceedings, Agreements Filed During the Week Ending March 24, 2000

The following Agreements were filed with the Department of Transportation under the provisions of 49 U.S.C. Sections 412 and 414. Answers may be filed within 21 days after the filing of the application.

Docket Number: OST-2000-7120.

Date Filed: March 23, 2000.

Parties: Members of the International Air Transport Association.

Subject: PTC COMP 0594 dated 21 March 2000; Mail Vote 070—Resolution 010h; Special Passenger Currency Conversion Resolution—euro.

Intended effective date: 1 April 2000.

Docket Number: OST-2000-7133.

Date Filed: March 24, 2000.

Parties: Members of the International Air Transport Association.

Subject: PTC2 ME-AFR 0049 dated 24 March 2000; Mail Vote 072—TC2 Middle East-Africa Special Passenger; Amending Resolution.

Intended effective date: 1 April 2000.

Andrea M. Jenkins,
Federal Register Liaison.

[FR Doc. 00-11161 Filed 5-3-00; 8:45 am]

BILLING CODE 4910-62-P